NATIONAL ARCHIVES AND RECORDS ADMINISTRATION

NARA Electronic Records Archives (ERA) User Conference

AGENCY: National Archives and Records Administration (NARA).

ACTION: Notice of meeting.

SUMMARY: NARA is in the planning stages to build a digital archives that will preserve U.S. Government records of continuing value and make them available electronically to anyone, at any time, in any place, for as long as needed. NARA invites those who are interested to participate in a user conference to provide feedback concerning our strategic response to the challenge of preserving, managing, and accessing electronic records.

DATES: Registrations must be received by October 11, 2002.

The conference is scheduled to be held on November 8, 2002 from 8:30 a.m. until 3:30 p.m.

ADDRESSES: National Archives at College Park, 8601 Adelphi Road, College Park, MD 20740-6001.

FOR FURTHER INFORMATION CONTACT: James McAlpin at (301) 837-0443.

SUPPLEMENTARY INFORMATION: Registration is limited. The registration form and additional information is on the NARA Web site at www.archives.gov/electronic_records_archives/.

Dated: September 23, 2002.
Kimberly Richardson,
Federal Register Liaison Official.

[FR Doc. 02-24614 Filed 9-26-02; 8:45 am]

BILLING CODE 7515-01-P